DEPARTMENT OF THE TREASURY

Internal Revenue Service

26 CFR Part 1

[TD 9335]

RIN 1545-BG19

Disclosure Requirements With Respect to Prohibited Tax Shelter Transactions; Correction

AGENCY: Internal Revenue Service (IRS), Treasury.

ACTION: Correcting amendment.

SUMMARY: This document contains correction to temporary regulations (TD 9335) that were published in the Federal Register on Friday, July 6, 2007 (72 FR 36869) under section 6033(a)(2) of the Internal Revenue Code that provide rules regarding the form, manner and timing of disclosure obligations with respect to prohibited tax shelter transactions to which tax-exempt entities are parties.

DATES: The correction is effective August 16, 2007.

FOR FURTHER INFORMATION CONTACT: Galina Kolomietz, (202) 622-6070, or Michael Blumenfeld, (202) 622-1124 (not toll-free numbers). For questions specifically relating to qualified pension plans, individual retirement accounts, and similar tax-favored savings arrangements, contact Dana Barry, (202) 622-6060 (not a toll-free number).

SUPPLEMENTARY INFORMATION:

Background

The temporary regulations that are the subject of this correction are under section 6033 of the Internal Revenue Code.

Need for Correction

As published, temporary regulations (TD 9335) contain an error that may prove to be misleading and is in need of clarification.

List of Subject in 26 CFR Part 1

Income taxes, Reporting and recordkeeping requirements.

Correction of Publication

Accordingly, 26 CFR part 1 is corrected by making the following correcting amendment:

PART 1—INCOME TAXES

Paragraph 1. The authority citation for part 1 continues to read, in part, as follows:

Authority: 26 U.S.C. 7805 * * *

Par. 2. Section 1.6033-5T is amended by revising paragraph (e)(1)(i) to read as follows:

§ 1.6033-5T Disclosure by tax-exempt entities that are parties to certain reportable transactions (temporary).

* * * * *

(e) * * *

(1) * * *

(i) In general. The disclosure required by this section shall be filed on or before May 15 of the calendar year following the close of the calendar year during which the tax-exempt entity entered into the prohibited tax shelter transaction.

* * * * *

LaNita Van Dyke,
Chief, Publications and Regulations Branch, Legal Processing Division, Associate Chief Counsel (Procedure and Administration).

[FR Doc. E7-16073 Filed 8-15-07; 8:45 am]

BILLING CODE 4830-01-P